DEPARTMENT OF TRANSPORTATION

National Highway Traffic Safety Administration

[Docket No. NHTSA-2014-0079]

Evaluation of FMVSS No. 301, “Fuel System Integrity,” as Upgraded in 2005 to 2009

AGENCY: National Highway Traffic Safety Administration (NHTSA), Department of Transportation (DOT).

ACTION: Request for comments on technical report.

SUMMARY: This notice announces NHTSA's publication of a technical report evaluating the upgraded FMVSS No. 301. The report's title is: Evaluation of FMVSS No. 301, “Fuel System Integrity,” as Upgraded in 2005 to 2009.

DATES: Comments must be received no later than November 5, 2014.

ADDRESSES:

Report: The technical report is available on the Internet for viewing in PDF format at http://www-nrd.nhtsa.dot.gov/Pubs/812038.pdf. You may obtain a copy of the report free of charge by sending a self-addressed mailing label to Jia-Ern Pai (NVS-431), National Highway Traffic Safety Administration, Room W53-440, 1200 New Jersey Avenue SE., Washington, DC 20590.

Comments: You may submit comments [identified by Docket Number NHTSA-2014-0079] by any of the following methods:

• Internet: To submit comments electronically, go to the U.S. Government regulations Web site at http://www.regulations.gov. Follow the online instructions for submitting comments.

• Fax: Written comments may be faxed to 202-366-3189.

• Mail: Send comments to Docket Management Facility, U.S. Department of Transportation, 1200 New Jersey Avenue SE., West Building Ground Floor, Room W12-140, Washington, DC 20590.

• Hand Delivery: If you plan to submit written comments by hand or courier, please do so at 1200 New Jersey Avenue SE., West Building Ground Floor, Room W12-140, Washington, DC between 9 a.m. and 5 p.m. Eastern Time, Monday through Friday, except federal holidays.

• You may call Docket Management at 1-800-647-5527.

Instructions: For detailed instructions on submitting comments and additional information see the Comments heading of the Supplementary Information section of this document. Note that all comments received will be posted without change to http://www.regulations.gov, including any personal information provided. Please see the Privacy Act heading in the SUPPLEMENTARY INFORMATION.

FOR FURTHER INFORMATION CONTACT: Jia-Ern Pai, Mathematical Statistician, Evaluation Division, NVS-431, National Center for Statistics and Analysis, National Highway Traffic Safety Administration, Room W53-440, 1200 New Jersey Avenue SE., Washington, DC 20590. Telephone: 202-366-2570. Email: Jia-Ern.Pai@dot.gov.

SUPPLEMENTARY INFORMATION: NHTSA issued a final rule to upgrade FMVSS No. 301, Fuel System Integrity, on December 1, 2003, to amend the prior standards in rear and side impacts. By increasing the impact speeds and using a moving deformable barrier, the amended test conditions are more comparable with real-world crashes than the prior standards. The rear impact upgrade phased in during model years 2007 to 2009, whereas the new side impact test went into effect in model year 2005.

The analysis of the rear impact upgrade shows a statistically significant reduction in post-crash fires ranging from 50 to 60 percent. In addition, the rear impact upgrade would reduce 35 percent of the fatalities caused by rear impact fires. NHTSA believes that the rear impact upgrade will save an estimated 23 lives per year, if all vehicles meet the rear impact upgrade. However, the data do not currently show that the side impact upgrade resulted in a statistically significant reduction in side impact fires.

The statistical analysis does not show any significant affiliated effect of the rear impact upgrade on frontal impact fires and first-event-rollover fires. The statistical inference of the rear impact upgrade should not apply to other crash modes.

Comments

How can I influence NHTSA's thinking on this subject?

NHTSA welcomes public review of the technical report. NHTSA will submit to the Docket a response to the comments and, if appropriate, will supplement or revise the report.

How do I prepare and submit comments?

Your comments must be written and in English. To ensure that your comments are correctly filed in the Docket, please include the Docket number of this document (NHTSA-2014-0079) in your comments.

Your primary comments must not be more than 15 pages long (49 CFR 553.21). However, you may attach additional documents to your primary comments. There is no limit on the length of the attachments.

Please submit one copy of your comments, including the attachments, to Docket Management at the address given above under ADDRESSES.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg_reproducible. DOT's guidelines may be accessed at http://www.rita.dot.gov/bts/sites/rita.dot.gov.bts/files/subject_areas/statistical_policy_and_research/data_quality_guidelines/index.html.

Privacy Act: Anyone is able to search the electronic form of all comments received into any of our dockets by the name of the individual submitting the comment (or signing the comment, if submitted on behalf of an association, business, labor union, etc.). You may review DOT's complete Privacy Act Statement in the Federal Register published on April 11, 2000 (65 FR 19477-78) or you may visit http://www.regulations.gov.

How can I be sure that my comments were received?

If you wish Docket Management to notify you upon its receipt of your comments, enclose a self-addressed, stamped postcard in the envelope containing your comments. Upon receiving your comments, Docket Management will return the postcard by mail. You may also periodically access http://www.regulations.gov and enter the number for this docket (NHTSA-2014-0079) to see if your comments are on line.

How do I submit confidential business information?

If you wish to submit any information under a claim of confidentiality, you should submit three copies of your complete submission, including the information you claim to be confidential business information, to the Chief Counsel, NHTSA, U.S. Department of Transportation, 1200 New Jersey Avenue SE., Washington, DC 20590. In addition, you should submit a copy, from which you have deleted the claimed confidential business information, to Docket Management at the address given above under ADDRESSES. When you send a comment containing information claimed to be confidential business information, you should include a cover letter setting forth the information specified in our confidential business information regulation. (49 CFR Part 512.)

Will the agency consider late comments?

In our response, we will consider all comments that Docket Management receives before the close of business on the comment closing date indicated above under DATES. To the extent possible, we will also consider comments that Docket Management receives after that date.

How can I read the comments submitted by other people?

You may read the comments received by Docket Management at the address given above under ADDRESSES. The hours of the Docket are indicated above in the same location.

You may also see the comments on the Internet. To read the comments on the Internet, take the following steps:

(1) Go to the Federal Docket Management System (FDMS) at http://www.regulations.gov.

(2) FDMS provides two basic methods of searching to retrieve dockets and docket materials that are available in the system: (a) “Quick Search” to search using a full-text search engine, or (b) “Advanced Search,” which displays various indexed fields such as the docket name, docket identification number, phase of the action, initiating office, date of issuance, document title, document identification number, type of document, Federal Register reference, CFR citation, etc. Each data field in the advanced search may be searched independently or in combination with other fields, as desired. Each search yields a simultaneous display of all available information found in FDMS that is relevant to the requested subject or topic.

(3) You may download the comments. However, since the comments are imaged documents, instead of word processing documents, the “pdf” versions of the documents are word searchable.

Please note that even after the comment closing date, we will continue to file relevant information in the Docket as it becomes available. Further, some people may submit late comments. Accordingly, we recommend that you periodically check the Docket for new material.

Authority: 49 U.S.C. 30111, 30181-83 delegation of authority at 49 CFR 1.95 and 501.8.

Terry Shelton,
Associate Administrator for the National Center for Statistics and Analysis.

[FR Doc. 2014-15783 Filed 7-7-14; 8:45 am]

BILLING CODE 4910-59-P